ENVIRONMENTAL PROTECTION AGENCY

[EPA-HQ-OECA-2013-0298; FRL—9914-73-OEI]

Information Collection Request Submitted to OMB for Review and Approval; Comment Request; NESHAP for Industrial, Commercial, and Institutional Boilers Area Sources (Renewal)

AGENCY: Environmental Protection Agency (EPA).

ACTION: Notice.

SUMMARY: The Environmental Protection Agency has submitted an information collection request (ICR), “NESHAP for Industrial, Commercial, and Institutional Boilers Area Sources (Renewal)” (EPA ICR No. 2253.03, OMB Control No. 2060-0668), to the Office of Management and Budget (OMB) for review and approval in accordance with the Paperwork Reduction Act (44 U.S.C. 3501 et seq). This is a proposed extension of the ICR, which is currently approved through September 30, 2014. Public comments were previously requested via the Federal Register (78 FR 35023) on June 11, 2013, during a 60-day comment period. This notice allows for an additional 30 days for public comments. A fuller description of the ICR is given below, including its estimated burden and cost to the public. An Agency may not conduct or sponsor, and a person is not required to respond to a collection of information unless it displays a currently valid OMB control number.

DATES: Additional comments may be submitted on or before September 17, 2014.

ADDRESSES: Submit your comments, referencing Docket ID Number EPA-HQ-OECA-2013-0298, to (1) EPA online using www.regulations.gov (our preferred method), or by email to docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov, or in person at the EPA Docket Center, WJC West, Room 3334, 1301 Constitution Ave. NW., Washington, DC. The telephone number for the Docket Center is 202-566-1744. For additional information about EPA's public docket, visit: http://www.epa.gov/dockets.

Abstract: The NESHAP for Industrial, Commercial, and Institutional Boilers Area Sources (40 CFR part 63 subpart JJJJJJ) fulfills the requirements of section 112 of the Clean Air Act (CAA), which requires the U.S. Environmental Protection Agency (EPA) to promulgate national emission standards for industrial, commercial, and institutional boilers. Records and reports required by the NESHAP for industrial, commercial, and institutional boilers area sources are necessary to enable EPA to identify sources subject to the standards and to ensure that these standards are being achieved. Records and reports must be maintained at the facility and/or submitted to EPA. All reports are sent to the delegated state or local authority. In the event that there is no such delegated authority, the reports are sent directly to the EPA regional office.

Form numbers: None.

Respondents/affected entities: Owners and operators of industrial, commercial, or institutional boilers.

Respondent's obligation to respond: Mandatory (40 CFR Part 63, Subpart JJJJJJ).

Estimated number of respondents: 96,985 (total).

Frequency of response: Initially, biennially, semiannually and annually.

Total estimated burden: 1,656,984 hours (per year). Burden is defined at 5 CFR 1320.3(b).

Total estimated cost: $284,902,526 (per year), including $125,515,823 annualized capital and/or operation & maintenance costs.

Changes in the estimates: There is a decrease in the total estimated burden as currently identified in the OMB Inventory of Approved Burdens. This decrease is not due to any program changes. The change in burden and cost estimates occurred because the standards have been in effect for more than three years and the requirements are different during initial compliance (new facilities) as compared to the on-going compliance, which is reflected in this estimates for this ICR. The previous ICR reflected those burdens and costs associated with initial activities for subject facilities. This includes purchasing monitoring equipment and conducting performance tests. This ICR, by in large, reflects the on-going burden and costs for existing facilities. The overall result is a decrease in both burden hours and costs.

There is also a decrease in total annual capital/startup and O&M costs as compared to the previous ICR. This decrease is attributed to the fact that initial compliance with the standards occurred during the period of the previous ICR (e.g., monitors were purchased). For the next three years, however, fewer monitors will be purchased, but existing CEM monitors will have on-going O&M costs.

Spencer Clark,
Acting Director, Collection Strategies Division.

[FR Doc. 2014-19459 Filed 8-15-14; 8:45 am]

BILLING CODE 6560-50-P